DEPARTMENT OF HEALTH AND HUMAN SERVICES

National Institutes of Health

National Cancer Institute; Amended Notice of Meeting

Notice is hereby given of a change in the meeting of the National Cancer Institute Board of Scientific Advisors, March 13, 2006, 8 a.m. to March 14, 2006, 6 p.m., National Institutes of Health, Building 31, C Wing, 6 Floor, 9000 Rockville Pike, Conference Room 10, Bethesda, MD 20892, which was published in the Federal Register on January 27, 2006, 71FR4596.

The meeting is being amended to change the meeting to a one day meeting. This meeting will be held on March 13, 2006, 8 a.m. to 6 p.m. The meeting is open to the public.

Dated: February 22, 2006.
Anna Snouffer,
Acting Director, Office of Federal Advisory Committee Policy.

[FR Doc. 06-1883 Filed 2-28-06; 8:45 am]

BILLING CODE 4140-01-M